ENVIRONMENTAL PROTECTION AGENCY

[EPA-HQ-OPP-2009-0935; FRL-8807-1]

Antimicrobial Pesticide Products; Registration Applications

AGENCY: Environmental Protection Agency (EPA).

ACTION: Notice.

SUMMARY: This notice announces receipt of applications to register new uses for pesticide products containing currently registered active ingredients, pursuant to the provisions of section 3(c) of the Federal Insecticide, Fungicide, and Rodenticide Act (FIFRA), as amended. EPA is publishing this notice of such applications, pursuant to section 3(c)(4) of FIFRA.

DATES: Comments must be received on or before April 30, 2010.

ADDRESSES: Submit your comments, identified by docket identification (ID) number specified within the table below, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to docket ID number specified for the pesticide of interest as shown in the registration application summaries. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person is listed at the end of each registration application summary and may be contacted by telephone or e-mail. The mailing address for each contact person listed is: Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number). If you are commenting in a docket that addresses multiple products, please indicate to which registration number(s) your comment applies.

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA received applications as follows to register new uses of pesticide products containing currently registered active ingredients pursuant to the provisions of section 3(c) of FIFRA, and is publishing this notice of such applications pursuant to section 3(c)(4) of FIFRA. Notice of receipt of these applications does not imply a decision by the Agency on the applications.

1. Registration Number/File Symbol: 100-1233. Docket ID. Number: EPA-HQ-OPP-2009-0970. Company name and address: Syngenta Crop Protection, Inc., P.O. Box 18300, Greensboro, NC 27419. Active ingredient: Propiconazole. Proposed Uses: Materials preservative for latex paint, coatings and stains. Contact: Stacey Grigsby, (703) 305-6440; rigsby.stacey@epa.gov.

2. Registration Number/File Symbol: 464-682. Docket ID. Number: EPA-HQ-OPP-2009-0992. Company name and address: Dow Chemical Co., 1803 Bldg., Midland, MI 48674. Active ingredient: 2,6-Dimethyl-m-dioxan-4-ol acetate Proposed Uses: Material preservative for adhesive, paints, coatings, textiles and leather. Contact: Martha Terry, (703) 308-6217; terry.martha@epa.gov.

3. Registration Number/File Symbol: 707-307. Docket ID. Number: EPA-HQ-OPP-2009-0953. Company name and address: Rohm & Haas, 100 Independence Mall West, Philadelphia, PA 19106. Active ingredient: 4,5-Dichloro-2-n-octyl-4-isothiazolin-3 one Proposed Uses: Wood preservative intended for use in aquatic environments. Contact: Demson Fuller (703) 308-8063; fuller.demson@epa.gov.

4. Registration Number/File Symbol: 1043-REL Docket ID. Number: EPA-HQ-OPP-2009-0954. Company name and address: Steris Corporation, 7501 Page Ave, St Louis, MO 63133. Active ingredient: Tetra-acetyl-ethyllenediamine. Proposed Uses: Disinfectant for use on hard non-porous surfaces in institutional settings Contact: Demson Fuller (703) 308-8063; fuller.demson@epa.gov.

5. Registration Number/File Symbol: 1258-RGEO. Docket ID. Number: EPA-HQ-OPP-2009-0973. Company name and address: Arch Chemical Co, 1955 Lake Park Dr., Suite 100, Smyrna, GA 30080.Active ingredient: Calcium hypochlorite; Zinc sulfate monohydrate. Proposed Uses: Swimming pool water sanitizer. Contact: Wanda Henson, (703) 308-6345; henson.wanda@epa.gov.

6. Registration Number/File Symbol: 1258-RGGR. Docket ID. Number: EPA-HQ-OPP-2009-0993. Company name and address: Arch Chemical Co, 1955 Lake Park Dr., Suite 100, Smyrna, GA 30080. Active ingredient: Calcium hypochlorite; Zinc sulfate monohydrate. Proposed Uses: Swimming pool water sanitizer. Contact: Wanda Henson (703) 308-6345; henson.wanda@epa.gov.

7. Registration Number/File Symbol: 1258-1249. Docket ID. Number: EPA-HQ-OPP-2009-0975. Company name and address: Arch Chemical Co, 1955 Lake Park Dr., Suite 100, Smyrna, GA 30080. Active ingredient: N-Butyl-1,2-Benzisothiazol-3-one. Proposed Uses: Material preservative for plastic, metalworking fluids, rubber and coatings. Contact: Martha Terry, (703) 308-6217; terry.martha@epa.gov.

8. Registration Number/File Symbol: 1258-1286. Docket ID. Number: EPA-HQ-OPP-2009-0994. Company name and address: Arch Chemical Co, 1955 Lake Park Dr., Suite 100, Smyrna, GA 30080 Active ingredient: N-Butyl-1,2-Benzisothiazol-3-one Proposed Uses: Material preservative for plastic, metalworking fluids, rubber and coatings. Contact: Martha Terry, (703) 308-6217; terry.martha@epa.gov.

9. Registration Number/File Symbol: 1624-RGN. Docket ID. Number: EPA-HQ-OPP-2009-0972. Company name and address: US Borax Inc c/o Delta Analytical Corp., 12510 Prosperity Dr., Suite 160, Silver Spring, MD 20904. Active ingredient: Boric acid. Proposed Uses: Material preservative for paints, coatings, stains and ink dyes. Contact: Stacey Grigsby, (703) 305-6440; grigsby.stacey@epa.gov.

10. Registration Number/File Symbol: 1839-155. Docket ID. Number: EPA-HQ-OPP-2009-0955. Company name and address: Stepan Chemical, 22 W Frontage Rd, Northfield, Il 60093. Active ingredient: Alkyl dimethyl ethylbenzyl ammonium chloride. Proposed Uses: Food contact surface sanitizer in public eating establishments. Contact: Jacqueline Campbell-McFarlane, (703) 308-6416, campbell-mcFarlane.jacqueline@epa.gov.

11. Registration Number/File Symbol: 4582-TE. Docket ID. Number: EPA-HQ-OPP-2009-0971. Company name and address: Colgate-Palmolive, 909 River Rd, P.O. Box 1343, Piscataway, NJ 08855-1343. Active ingredient: L-Lactic acid. Proposed Uses: Dishwashing Detergent/Sanitizer Contact: Stacey Grigsby, (703) 305-6440; Grigsby.Stacey@epa.gov.

12. Registration Number/File Symbol: 5383-89. Docket ID. Number: EPA-HQ-OPP-2009-0939. Company name and address: Troy Chemical Corp., 8 Vreeland Rd, PO Box 955, Florham Park, NJ 07932-4200. Active ingredient: Carbamic acid. Proposed Uses: Metal working fluid. Contact: ShaRon Carlisle, (703) 308-6427; carlisle.sharon@epa.gov.

13. Registration Number/File Symbol: 5383-135. Docket ID. Number: EPA-HQ-OPP-2009-0950. Company name and address: Troy Chemical, Inc., 8 Vreekand Rd, PO Box 955, Floraham Park, NJ 07932. Active ingredient: 1,2-Benziosthiazolin. Proposed Uses: Material preservative for paint with public health claims. Contact: Demson Fuller, (703) 308-8063; fuller.demson@epa.gov.

14. Registration Number/File Symbol: 39967-25. Docket ID. Number: EPA-HQ-OPP-2009-0947. Company name and address: Lanxess Corp., 111 RDC Park West Drive, Pittsburgh, PA 15275-1112. Active ingredient: Sodium p-chloro-m-creosolate. Proposed Uses: Materials preservative for industrial lubricants. Contact: Heather Garvie, (703) 308-0034; garvie.heather@epa.gov.

15. Registration Number/File Symbol: 47371-161. Docket ID. Number: EPA-HQ-OPP-2009-0940. Company name and address: H&S Chemical Division, 90 Boroline Rd., Allendale, NJ 07401. Active ingredient: n-Alkyl(C14 50%, C12 40%, C16 10%) dimethyl benzyl ammonium chloride. Proposed Uses: Material preservative for treatment of sponges. Contact: Tracy Lantz, (703) 308-6415; lantz.tracy@epa.gov.

16. Registration Number/File Symbol: 63838-2. Docket ID. Number: EPA-HQ-OPP-2009-0991. Company name and address: Enviro Tech Chemical Services, P.O. Box 577470, Modesto, CA 95357. Active ingredient: Hydrogen peroxide; Peroxyacetic acid. Proposed Uses: Treatment of wastewater and sewage. Contact: Karen Leavy, (703) 308-6237; Leavy.Karen@epa.gov.

17. Registration Number/File Symbol: 68660-RG. Docket ID. Number: EPA-HQ-OPP-2009-0995. Company name and address: Solvay Chemical Inc., 3333 Richmond Ave, Houston, TX 77098. Active ingredient: Hydrogen peroxide. Proposed Uses: Sterilant for aseptic food packaging. Contact: Demson Fuller, (703) 308-8062; fuller.demson@epa.gov.

18. Registration Number/File Symbol: 70087-E. Docket ID. Number: EPA-HQ-OPP-2009-0944. Company name and address: Coating Systems Laboratories Inc, 211 E. Clinton Dr. Chandler, AZ 85225. Active ingredient: 3-(tri-hydroxysilyl) propyl ammonium chloride. Proposed Uses: Algicide for closed system ponds and swimming pools/spas. Contact: Jacqueline Campbell-McFarlane, (703) 308-6416; campbell-mcFarlane.jacqueline@epa.gov.

19. Registration Number/File Symbol: 71227-7. Docket ID. Number: EPA-HQ-OPP-2009-0951. Company name and address: Sinanen Company, LTD Agent (Agion Technologies Inc.), 60 Audubon Rd., Wakeffield, MA 01880. Active ingredient: Elemental copper; silver. Proposed Uses: Materials preservative in water bottle dispensers, ice trays, water bottles. Contact: Demson Fuller, (703) 308-8062; fuller.demson@epa.gov.

20. Registration Number/File Symbol: 71654-6. Docket ID. Number: EPA-HQ-OPP-2009-0938. Company name and address: E.I. Dupont De Nemours and Ccompany, Dupont Chemical Solutions Enterprises, PO Box 80402, Wilmington, Delaware 19880-0402. Active ingredient: Potassium peroxymonosulfate; Sodium chlorite. Proposed Uses: Food use in presence of farm animals; first food use to control viruses, bacteria, fungi, and algae in poultry and swine feeding sites while animals are present. Contact: ShaRon Carlisle, (703) 308-6427; Carlisle.Sharon@epa.gov.

21. Registration Number/File Symbol: 72920-R. Docket ID. Number: EPA-HQ-OPP-2009-0948. Company name and address: Vorigen, Inc., 5076 CR # 342, Navosota, TX 77868. Active ingredient: Silver. Proposed Uses: Control of legionella in water systems. Contact: Demson Fuller, (703) 308-8063; fuller.demson@epa.gov.

22. Registration Number/File Symbol: 72992-RL. Docket ID. Number: EPA-HQ-OPP-2009-0974. Company name and address: Lewis & Harrison c/o Chrysal International BV, 122 C Street, NW Suite 740, Washington DC 20001. Active ingredient: Silver nitrate. Proposed Uses: Material preservative for textile, plastic, metals, rubber and coatings. Contact: Martha Terry, (703) 308-6217; terry.martha@epa.gov.

23. Registration Number/File Symbol: 84526-G. Docket ID. Number: EPA-HQ-OPP-2009-0976. Company name and address: Lewis & Harrison c/o Sanosil USA, LLC, 122 C Street, NW, Suite 740, Washington DC 20001. Active ingredient: Hydrogen peroxide; Silver. Proposed Uses: For microbial control in re-circulating cooling water systems and industrial process water systems. Contact: Martha Terry (703) 308-6217; terry.martha@epa.gov.

24. Registration Number/File Symbol: 82544-E. Docket ID. Number: EPA-HQ-OPP-2009-0968. Company name and address: Samsung Electronics Co.,Ltd., Agent (Keller and Heckman LLP) 101 G Street, N.W., Suite 500 West, Washington, D.C. 20001. Active ingredient: Silver asmetallic. Proposed Uses: Silver use in washing machine Contact: Karen Leavy, (703) 308-6237; leavy.karen@epa.gov.

25. Registration Number/File Symbol: 82544-R. Docket ID. Number: EPA-HQ-OPP-2009-0969. Company name and address: Samsung Electronics Co.,Ltd., Agent (Keller and Heckman LLP) 101 G Street, N.W., Suite 500 West, Washington, D.C. 20001. Active ingredient: Silver as metallic. Proposed Uses: Silver use in washing machine. Contact: Karen Leavy, (703) 308-6237; leavy.karen@epa.gov.

26. Registration Number/File Symbol: 84545-I. Docket ID. Number: EPA-HQ-OPP-2009-0945. Company name and address: SBiomed LLC, 1272 South 1280 West Orem, Utah 84058. Active ingredient: Hydrogen peroxide; Peroxyacetic acid . Proposed Uses: Use as sporicidal decontaminant. Contact: Karen Leavy, (703) 308-6237; leavy.karen@epa.gov.

27. Registration Number/File Symbol: 84545-O. Docket ID. Number: EPA-HQ-OPP-2009-0967. Company name and address: SBiomed LLC, 1272 South 1280 West Orem, Utah 84058. Active ingredient: Silver. Proposed Uses: Use as sporicidal decontaminant. Contact: Karen Leavy, (703) 308-6237; leavy.karen@epa.gov.

28. Registration Number/File Symbol: 84622-1. Docket ID. Number: EPA-HQ-OPP-2009-0946. Company name and address: SBiomed LLC, 1272 South 1280 West Orem, Utah 84058. Active ingredient: Hydrogen peroxide; Peroxyacetic acid. Proposed Uses: Control of Bacillus anthracis on hard non-porous surfaces. Contact: Karen Leavy, (703) 308-6237; leavy.karen@epa.gov.

29. Registration Number/File Symbol: 84630-E. Docket ID. Number: EPA-HQ-OPP-2009-0943. Company name and address: Transtex Technologies, 9600 Rue Ingnace, Suite D, Brossard, Quebec, Canada J4Y 2R4. Active ingredient: n-Alkyl(C14 50%, C12 40%, C16 10%) dimethyl benzyl ammonium chloride and Silver. Proposed Uses: Material preservative for natural and synthetic fibers and textiles. Contact: Jacqueline Campbell-McFarlane, (703) 308-6416, campbell-mcFarlane.jacqueline @epa.gov.

30. Registration Number/File Symbol: 86256-R. Docket ID. Number: EPA-HQ-OPP-2009-0941. Company name and address: AbTech Industries Inc, 4110 N Scottsdale Rd., Suite 235, Scottsdale, AZ 85251. Active ingredient: 3-(trimethoxylsilyl) propyldimethyloctadecyl ammonium chloride. Proposed Uses: Sponge for treatment of industrial, municipal and storm water. Contact: Tracy Lantz (703) 308-6415; lantz.tracy@epa.gov.

List of Subjects

Environmental protection, Antimicrobial pesticides and pest.

Dated: March 15, 2010.
Joan Harrigan Farrelly,
Director, Antimicrobial Division, Office of Pesticide Programs.

[FR Doc. 2010-6793 Filed 3-30-10; 8:45 am]

BILLING CODE 6560-50-S